DEPARTMENT OF AGRICULTURE

Agricultural Marketing Service

[Doc. No. TM-15-01]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension of and revision to the currently approved information collection Specialty Crop Block Grant Program (SCBGP).

DATES: Comments on this notice must be received by February 9, 2015 to be assured of consideration.

Additional Information or Comments: Interested persons are invited to submit comments concerning this information collection document. Comments should be submitted online at www.regulations.gov or sent to John Miklozek, Specialty Crop Block Grant Program, Marketing Grants and Compliance Team, Transportation and Marketing Program Agricultural Marketing Service, U.S. Department of Agriculture; 1400 Independence Avenue SW., Stop 0269, South Building, Washington, DC 20250-0269; by phone (202) 720-1403; or by facsimile to (202) 690-4152. All comments should reference the docket number (TM-15-01), the date, and the page number of this issue of the Federal Register. All comments received will be posted without change, including any personal information provided, online at http://www.regulations.gov and will be made available for public inspection at the above physical address during regular business hours.

SUPPLEMENTARY INFORMATION: Title: Specialty Crop Block Grant Program.

OMB Number: 0581-0248.

Expiration Date of Approval: 3 years from date of OMB approval.

Type of Request: Extension and revision of a currently approved information collection.

Abstract: The information collection requirements in this request are applied only to those State departments of agriculture who voluntarily participate in the SCBGP. The information collected is needed to certify that grant participants are complying with applicable program regulations. Data collected is the minimum information necessary to effectively carry out the requirements of the program, and to fulfill the intent of Section 101 of the Competitiveness Act of 2004, as amended by Section 10010 of the Agriculture Act of 2014, Public Law 113-79, the Farm Bill.

The overall estimated burden hours for this collection of information is estimated to average 3.275 hours per response.

Respondents: State departments of agriculture.

Estimated Number of Respondents: 56 (All 50 States, the District of Columbia, American Samoa, Guam, the Commonwealth of the Northern Mariana Islands, the Commonwealth of Puerto Rico, and the U.S. Virgin Islands).

Estimated Total Annual Responses: 560.

Estimated Total Annual Burden on Respondents: 1,834 hours.

State departments of agriculture who wish to participate in the SCBGP would have to submit the following:

(a) SF-424, “Application for Federal Assistance”, (approved under OMB collection number 4040-0004) is required to apply for Federal assistance.

(b) SF-424B, “Assurances-Non-Construction Programs”, (approved under OMB collection number 4040-0007) to assure the Federal government of the applicant's legal authority to apply for Federal assistance.

(c) State Plan Narrative. Completed applications must include a State Plan Narrative to show how grant funds will be utilized to enhance the competitiveness of specialty crops.

Estimate of Burden: Public reporting burden for this collection of information is estimated to average 10 hours per response.

Respondents: State departments of agriculture.

Estimated Number of Respondents: 56 (All 50 States, the District of Columbia, American Samoa, Guam, the Commonwealth of the Northern Mariana Islands, the Commonwealth of Puerto Rico, and the U.S. Virgin Islands).

Estimated Total Annual Responses: 56.

Estimated Number of Responses per Respondent: 1.

Estimated Total Annual Burden on Respondents: 560 hours.

Before funds are dispersed, State departments of agriculture must complete the following forms:

(a) Grant Agreement. The Grant Agreement (AMS-33) sets forth the agreed upon responsibilities of AMS project work. It also indicates the agreed upon grant funding dollar amounts and the beginning date and ending date of the project work and the Grant Agreement. One copy of this Grant Agreement is required to be returned to AMS with the recipient's signatures and dated for each grant.

Estimate of Burden: Public reporting burden for this collection of information is estimated to average 2 hours per response.

Respondents: State departments of agriculture.

Estimated Number of Respondents: 56.

Estimated Number of Responses: 56.

Estimated Number of Responses per Respondent: 1.

Estimated Total Annual Burden on Respondents: 112 hours.

(b) SF-270, “Request for Advance and Reimbursement” (approved under OMB collection number 0348-0004) is required whenever the recipients request an advance or reimbursement of Federal grant funds. AMS expects that at least three (3) SF-270 forms will be submitted during the grant agreement period.

(c) Annual Performance Report. The Annual Performance Report is required if a grant period is more than one year in length. The Annual Performance Report is written documentation required to notify AMS about the work activities and progress towards completing the recipients' and subrecipients' established project activities, goals and outcomes. AMS expects that at least two (2) Annual Performance Reports will be submitted during the grant agreement period.

Estimate of Burden: Public reporting burden for this collection of information is estimated to average 3 hours per response.

Respondents: State departments of agriculture.

Estimated Number of Respondents: 56.

Estimated Number of Responses: 112.

Estimated Number of Responses per Respondent: 2.

Estimated Total Annual Burden on Respondents: 336 hours.

(d) Final Performance Report. The Final Performance Report is written information required by AMS within 90 days after the ending date of the grant agreement. This information is utilized as final documentation of completion of the project activities, goals and outcomes.

Estimate of Burden: Public reporting burden for this collection of information is estimated to average 6 hours per response.

Respondents: State departments of agriculture.

Estimated Number of Respondents: 56.

Estimated Number of Responses: 56.

Estimated Number of Responses per Respondent: 1.

Estimated Total Annual Burden on Respondents: 336 hours.

(e) Request for Grant Amendment. A State department of agriculture participating in the SCBGP would have to submit a Request for Grant Amendment to AMS if there is a change in key personnel, scope or objectives of the grant, budget changes that exceed more than 20 percent of a project's total budget, request to purchase of special purpose equipment, request for foreign travel and travel costs for government officials, and/or an extension of the grant period not to exceed 3 calendar years.

Estimate of Burden: Public reporting burden for this collection of information is estimated to average 1 hour per response.

Respondents: State departments of agriculture.

Estimated Number of Respondents: 56.

Estimated Number of Responses: 56.

Estimated Number of Responses per Respondent: 2.

Estimated Total Annual Burden on Respondents: 112 hours.

(f) SF-425 “Federal Financial Report” (approved under OMB collection number 0348-0061) is to be completed 90 days after the expiration date of the grant period to comply with various legal and regulatory requirements as described within the form.

(g) Audit Report. A State is required to conduct an audit of SCBGP expenditures and an audit report is required to be submitted to AMS no later than 30 days after completion of the audit.

Estimate of Burden: Public reporting burden for this collection of information is estimated to average 3 hours per response.

Respondents: State departments of agriculture.

Estimated Number of Respondents: 56.

Estimated Number of Responses: 56.

Estimated Number of Responses per Respondent: 1.

Estimated Total Annual Burden on Respondents: 168 hours.

(h) SF-428 “Tangible Personal Property Report” (approved under OMB collection number 3090-0289) is to be completed 90 days after the expiration date of the grant period to comply with various legal and regulatory requirements as described within the form.

Estimate of Burden: Public reporting burden for this collection of information is estimated to average 2.75 hour per response.

Respondents: State departments of agriculture.

Estimated Number of Respondents: 56.

Estimated Number of Responses: 56.

Estimated Number of Responses per Respondent: 1.

Estimated Total Annual Burden on Respondents: 154 hours.

Finally, State departments of agriculture are required to retain records pertaining to the SCBGP for 3 years after completion of the grant period or until final resolution of any audit findings or litigation claims relating to the SCBGP. This is a part of normal business practice.

This program would not be maintained by any other Agency, therefore, the requested information will not be available from any other existing records.

AMS is committed to compliance with the Government Paperwork Elimination Act (GPEA), which requires Government agencies in general to provide the public the option of submitting information or transacting business electronically to the maximum extent possible. The SF-424 and SF-424B forms and State Plan (Narrative) can be completed electronically and are required to be submitted electronically through www.grants.gov.

The SF-425, SF-428, and SF-270 forms can be filled out electronically and submitted electronically. These forms can be found at http://www.whitehouse.gov/omb/grants_forms/.

The Annual Performance Report, Final Performance Report, Audit Report, and Request for Grant Amendment can be submitted electronically. The Grant Agreement requires an original signature and can be submitted by mail.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to John Miklozek at the above physical address, by telephone (202) 720-1403, or by email at scblockgrants@usda.gov. All comments received will be available for public inspection during regular business hours at the same address.

All responses to this notice will be summarized and included in the request for OMB approval. All comments will become a matter of public record.

Dated: December 5, 2014.
Rex A. Barnes,
Associate Administrator, Agricultural Marketing Service.

[FR Doc. 2014-28991 Filed 12-10-14; 8:45 am]

BILLING CODE 3410-02-P